ENVIRONMENTAL PROTECTION AGENCY

[EPA-HQ-OECA-2013-0350; FRL-9907-44-OEI]

Information Collection Request Submitted to OMB for Review and Approval; Comment Request; The Consolidated Air Rule (CAR) for the Synthetic Organic Chemical Manufacturing Industry (SOCMI) (Renewal)

AGENCY: Environmental Protection Agency (EPA).

ACTION: Notice.

SUMMARY: The Environmental Protection Agency has submitted an information collection request (ICR), “The Consolidated Air Rule (CAR) for the Synthetic Organic Chemical Manufacturing Industry (SOCMI) (Renewal)” (EPA ICR No. 1854.09, OMB Control No. 2060-0443), to the Office of Management and Budget (OMB) for review and approval in accordance with the Paperwork Reduction Act (44 U.S.C. 3501 et seq). This is a proposed extension of the ICR, which is currently approved through April 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 10, 2014.

ADDRESSES: Submit your comments, referencing Docket ID Number EPA-HQ-OECA-2013-0350, to: (1) EPA online using www.regulations.gov (our preferred method), or by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The synthetic organic chemical manufacturing industry (SOCMI) is regulated by both the New Source Performance Standards (NSPS) and National Emission Standards for Hazardous Air Pollutants (NESHAP) standards. The affected entities are subject to the General Provisions of the NSPS at 40 CFR part 60, subpart A, and any changes or additions to the Provisions specified at 40 CFR part 60, subparts Ka, Kb, VV, VVa, DDD, III, NNN and RRR. The affected entities are also subject to the General Provisions of the NESHAP at 40 CFR part 63, subpart A, and any changes, or additions to the Provisions specified at 40 CFR part 63, subparts BB, Y, V, F, G, H and I. As an alternative, SOCMI sources may choose to comply with the above standards under the consolidated air rule (CAR) at 40 CFR part 65 as promulgated December 14, 2000. Synthetic organic chemical manufacturing facilities subject to NSPS requirements must notify EPA of construction, modification, startups, shutdowns, date and results of initial performance test and excess emissions. Semiannual reports are also required. Synthetic organic chemical manufacturing facilities subject to NESHAP requirements must submit one-time-only reports of any physical or operational changes and the results of initial performance tests. Owners or operators are also required to maintain records of the occurrence and duration of any startup, shutdown, or malfunction in the operation of an affected facility, or any period during which the monitoring system is inoperative. Periodic reports are also required semiannually at a minimum.

Form Numbers: None.

Respondents/affected entities: Owners or operators of synthetic organic chemical manufacturing facilities.

Respondent's obligation to respond: Mandatory (40 CFR part 60, subpart A, Ka, Kb, VV, VVa, DDD, III, NNN and RRR; and 40 CFR part 63, subpart A, BB, Y, V, F, G, H and I).

Estimated number of respondents: 4,618 (total).

Frequency of response: Initially, occasionally, semiannually and annually.

Total estimated burden: 2,130,669 hours (per year). “Burden” is defined at 5 CFR 1320.3(b).

Total estimated cost: $309,692,801 (per year), which includes $101,277,000 in annualized capital/startup and/or operation & maintenance costs.

Changes in the Estimates: There is an increase in the total estimated respondent labor burden and associated labor, capital/startup, and O&M costs. Overall, the change in burden from the most recently approved ICR is due to an increase in the number of sources subject to the standard, and is not due to any program changes. The number of sources has been increased to reflect industry growth, which in turn increased the cost of those subparts where growth is expected.

There is a further overall increase in respondent burden costs from the most recently approved ICR due to the use of updated labor rates. This ICR references labor rates from the Bureau of Labor Statistics to calculate respondent burden costs. Note that this ICR also references labor rates from OPM to calculate Agency costs; however, the update did not affect Agency costs since the rates are identical between this and the most recently-approved ICR.

Richard T. Westlund,
Acting Director, Collection Strategies Division.

[FR Doc. 2014-05217 Filed 3-10-14; 8:45 am]

BILLING CODE 6560-50-P